DEPARTMENT OF TRANSPORTATION

Federal Aviation Administration

[Docket No.: FAA-2025-1005; Summary Notice No. 2025-43]

Petition for Exemption; Summary of Petition Received; TransNorthern Aviation

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion nor omission of information in the summary is intended to affect the legal status of the petition or its final disposition.

DATES: Comments on this petition must identify the petition docket number and must be received on or before August 18, 2025.

ADDRESSES: Send comments identified by docket number FAA-2025-1005 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Mickenzie Roby, Office of Rulemaking, Federal Aviation Administration, 800 Independence Avenue SW, Washington, DC 20591, at 202-267-9677.

This notice is published pursuant to 14 CFR 11.85.

Issued in Washington, DC.
Dan A. Ngo,
Manager, Part 11 Petitions Branch, Office of Rulemaking.

Petition for Exemption

Docket No.: FAA-2025-1005.

Petitioner: TransNorthern Aviation.

Section(s) of 14 CFR Affected: §§ 135.99(c)(1)(iii), 135.99(c)(4)(i), 135.99(c)(4)(ii) and 61.159(c)(3).

Description of Relief Sought: TransNorthern Aviation requests relief from portions of the Second in Command Professional Development Program. This would allow the FAA POI to issue Operations Specification A062 without TransNorthern Aviation having to establish and maintain a data collection and analysis process that will enable them and the FAA to determine if the second-in-command professional development program is accomplishing its objectives. The assigned PIC would not need to have been fully qualified to serve as a pilot in command for the certificate holder for at least the previous 6 calendar months, nor be required to complete mentoring training, including techniques for reinforcing the highest standards of technical performance, airmanship and professionalism within the preceding 36 calendar months. Finally, the PIC would not be required to certify in the pilot's logbook that the second-in-command pilot time was accomplished under section 61.159(c).

[FR Doc. 2025-14284 Filed 7-28-25; 8:45 am]

BILLING CODE 4910-13-P